ENVIRONMENTAL PROTECTION AGENCY

40 CFR Part 52

[EPA-R09-OAR-2021-0524; FRL-8808-01-R9]

Air Plan Approval; California; Eastern Kern Air Pollution Control District

AGENCY: Environmental Protection Agency (EPA).

ACTION: Proposed rule.

SUMMARY: The Environmental Protection Agency (EPA) is proposing to approve a revision to the Eastern Kern Air Pollution Control District (EKAPCD) portion of the California State Implementation Plan (SIP) concerning the EKAPCD's demonstration regarding reasonably available control technology (RACT) requirements and negative declarations for the 2008 8-hour ozone National Ambient Air Quality Standards (NAAQS or “standards”) in the portion of the Kern County nonattainment area under the jurisdiction of EKAPCD. We are proposing action on a SIP revision under the Clean Air Act (CAA or the Act). We are taking comments on this proposal and plan to follow with a final action.

DATES: Comments must be received on or before September 24, 2021.

ADDRESSES: Submit your comments, identified by Docket ID No. EPA-R09-OAR-2021-0524 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Nicole Law, EPA Region IX, 75 Hawthorne St., San Francisco, CA 94105. By phone: (415) 947-4126 or by email at Law.Nicole@epa.gov.

SUPPLEMENTARY INFORMATION: Throughout this document, “we,” “us” and “our” refer to the EPA.

Table of Contents

I. The State's Submittal

A. What document did the State submit?

B. Are there other versions of this document?

C. What is the purpose of the submitted document?

D. What portion of the RACT SIP submittal is addressed in this notice?

II. The EPA's Evaluation and Action

A. How is the EPA evaluating the submitted document?

B. Does the document meet the evaluation criteria?

C. The EPA's Recommendations to Further Improve the RACT SIP

D. Public Comment and Proposed Action

III. Statutory and Executive Order Reviews

I. The State's Submittal

A. What document did the State submit?

Table 1 lists the document addressed by this proposal with the date that it was adopted by the local air agency and submitted by the California Air Resource Board (CARB).

Table 1—Submitted Document
Local agency | Document | Adopted | Submitted
EKAPCD | Eastern Kern Air Pollution Control District Reasonably Available Control Technology (RACT) State Implementation Plan (SIP) For The 2008 Ozone National Ambient Air Quality Standards (NAAQS) (“2017 RACT SIP”) | 05/11/2017 | 08/09/2017

On February 9, 2018 the submittal for the EKAPCD 2017 RACT SIP was deemed by operation of law to meet the completeness criteria in 40 CFR part 51 Appendix V, which must be met before formal EPA review.

B. Are there other versions of this document?

There are no previous versions of the RACT SIP and negative declarations in the EKAPCD portion of the California SIP for the 2008 ozone NAAQS.

C. What is the purpose of the submitted document?

Emissions of volatile organic compounds (VOCs) and oxides of nitrogen (NOX) contribute to the production of ground-level ozone, smog and particulate matter (PM), which harm human health and the environment. Section 110(a) of the CAA requires states to submit regulations that control VOC and NOx emissions. Sections 182(b)(2) and (f) require that SIPs for ozone nonattainment areas classified as Moderate or above implement RACT for any source covered by a Control Techniques Guidelines (CTG) document and for any major source of VOCs or NOX. The EKAPCD is subject to this requirement as it regulates the Eastern Kern ozone nonattainment area that was designated and classified as a Moderate nonattainment area for the 2008 8-hour ozone NAAQS at the time of submittal.¹ Therefore, the EKAPCD must, at a minimum, adopt RACT-level controls for all sources covered by a CTG document and for all major non-CTG sources of VOCs or NOX within the ozone nonattainment area that it regulates. Any stationary source that emits or has the potential to emit at least 100 tons per year (tpy) of VOCs or NOX is a major stationary source in a Moderate ozone nonattainment area (CAA section 182(b)(2), (f) and 302(j)).

¹ The EPA has since reclassified the Eastern Kern ozone nonattainment area to “Serious” on July 5, 2018 (83 FR 31334) and “Severe” on June 7, 2021 (86 FR 30204).

Section III.D of the preamble to the EPA's final rule to implement the 2008 ozone NAAQS discusses RACT requirements.² It states, in part, that RACT SIPs must contain adopted RACT regulations, certifications (where appropriate) that existing provisions are RACT, and/or negative declarations that no sources in the nonattainment area are covered by a specific CTG.³ It also provides that states must submit appropriate supporting information for their RACT submissions as described in the EPA's implementation rule for the 1997 ozone NAAQS.⁴ The EKAPCD's RACT SIP submittal (“2017 RACT SIP”) and negative declarations provide EKAPCD's analyses of its compliance with the CAA section 182 RACT requirements for the 2008 8-hour ozone NAAQS.

² 80 FR 12264 (March 6, 2015).

³ Id. at 12278.

⁴ Id.; 70 FR 71612, 71652 (November 29, 2005).

The EPA's technical support document (TSD) has more information about EKAPCD's RACT SIP, negative declarations, and the EPA's evaluations thereof.

D. What portion of the RACT SIP submittal is addressed in this notice?

This proposal is one of three EPA actions on the EKAPCD 2017 RACT SIP submittal. The other two actions are as follows:

(1) On January 14, 2021, the EPA approved EKAPCD's negative declaration for the CTG category associated with the Oil and Natural Gas Industry (EPA-453/B-16-001). We assessed internet sites for California's Department of Conservation Geologic Energy Management Devisions (CalGEM) Well Finder, CARB's pollution mapping tool, and the California Energy Commission's California Natural Gas Pipelines and determined there were no oil and gas operations within EKAPCD's jurisdiction convered by the Oil and Natural Gas CTG.⁵

⁵ Technical Support Document for EPA's Clean Air Act Rulemaking for the California State Implementation Plan Eastern Kern County Air Pollution Control District Negative Declaration for Control Techniques Guidelines for the Oil and Natural Gas Industry date August 2020 and prepared by Sina Schwenk-Mueller.

(2) The amended rules for major source NOX were submitted separately on May 23, 2018 and August 22, 2018. These rules and the RACT certification for major source NOX will be addressed in a separate action.

This proposed action addresses the remainder of the 2017 RACT SIP submission. Additional details about the submission and the EPA's separate actions thereon are available in the TSD.

II. The EPA's Evaluation and Action

A. How is the EPA evaluating the submitted document?

Generally, SIP rules must require RACT for each category of sources covered by a CTG document as well as each major source of VOCs or NOX in ozone nonattainment areas classified as Moderate or above (see CAA section 182(b)(2)). At the time of submittal, the EKAPCD regulated an ozone nonattainment area classified as Moderate for the 2008 ozone standard (40 CFR 81). Therefore, the EKAPCD rules must implement RACT.

States should also submit for SIP approval negative declarations for those source categories for which they have not adopted RACT-level regulations (because they have no sources above the CTG-recommended applicability threshold), regardless of whether such negative declarations were made for an earlier SIP.⁶ To do so, the submittal should provide reasonable assurance that no sources subject to the CTG requirements currently exist in the portion of the ozone nonattainment area that is regulated by the EKAPCD.

⁶ 57 FR 13498, 13512 (April 16, 1992).

The District's analysis must demonstrate that each major source of VOCs or NOX in the ozone nonattainment area is covered by a RACT-level rule. In addition, for each CTG source category, the County must either demonstrate that a RACT-level rule is in place or submit a negative declaration. Guidance and policy documents that we use to evaluate CAA section 182 RACT requirements include the following:

1. “State Implementation Plans; General Preamble for the Implementation of Title I of the Clean Air Act Amendments of 1990,” 57 FR 13498 (April 16, 1992); 57 FR 18070 (April 28, 1992).

2. “Issues Relating to VOC Regulation Cutpoints, Deficiencies, and Deviations,” EPA, May 25, 1988 (the Bluebook, revised January 11, 1990).

3. “Guidance Document for Correcting Common VOC & Other Rule Deficiencies,” EPA Region 9, August 21, 2001 (the Little Bluebook).

4. “State Implementation Plans; Nitrogen Oxides Supplement to the General Preamble; Clean Air Act Amendments of 1990 Implementation of Title I; Proposed Rule,” (the NOX Supplement), 57 FR 55620, November 25, 1992.

5. Memorandum dated May 18, 2006, from William T. Harnett, Director, Air Quality Policy Division, to Regional Air Division Directors, Subject: “RACT Qs & As—Reasonably Available Control Technology (RACT): Questions and Answers.”

6. “Final Rule to Implement the 8-hour Ozone National Ambient Air Quality Standard—Phase 2,” 70 FR 71612 (November 29, 2005).

7. “Implementation of the 2008 National Ambient Air Quality Standards for Ozone: State Implementation Plan Requirements,” 80 FR 12264 (March 6, 2015).

B. Does the document meet the evaluation criteria?

EKAPCD's 2017 RACT SIP provides the District's demonstration that the applicable SIP for the EKAPCD satisfies CAA section 182 RACT requirements for the 2008 8-hour ozone NAAQS. This conclusion is based on EKAPCD's analysis of SIP-approved requirements that apply to the following: (1) Source categories for which a CTG has been issued, and (2) major non-CTG stationary sources of VOC or NOX emissions.

With respect to CTG source categories, EKAPCD analyzed in Section VI., “RACT ANALYSIS,” of the 2017 RACT SIP those rules and source categories that had sources within the District subject to the CTGs. Based on our analysis, the EPA concludes that EKAPCD's analysis has demonstrated that the required rules are in place. In this rulemaking, we propose to find that EKAPCD Rules 410.3, 410.4, 410.8, 410.9, and 412 establish RACT-level controls for the sources within the following CTG categories: “Design Criterial for Stage I Vapor Control Systems—Gasoline Service Stations” (EPA-450/R-75-102), “Control of Volatile Organic Emissions from Solvent Metal Cleaning” (EPA-450/2-77-022), “Control of Volatile Organic Emissions from Existing Stationary Sources—Volume VI: Surface Coating of Miscellaneous Metal Parts and Products” (EPA-450/2-78-015), “Control of Volatile Organic Compound Leaks from Gasoline Tank Trucks and Vapor Collection Systems” (EPA-450/2-78-051), “Control Technique Guidelines for Miscellaneous Metal and Plastic Parts Coatings” (EPA-453/R-08-003), “Control of Volatile Organic Compound Emissions from Wood Furniture Manufacturing Operations” (EPA-453/R-96-007), and “Control of Volatile Organic Compound Emissions from Coating Operations at Aerospace Manufacturing and Rework Operations” (EPA-453/R-97-004). Our TSD has additional information about our evaluation of these rules.

Where there are no existing sources covered by a particular CTG document, or no major non-CTG sources of NOX or VOC, states may, in lieu of adopting RACT requirements for those sources, adopt negative declarations certifying that there are no such sources in the relevant nonattainment area. Table 6 of the 2017 RACT SIP lists EKAPCD's negative declarations where it has no sources subject to the applicable CTGs for the 2008 8-hour ozone NAAQS. These negative declarations are listed in Table 2 below. EKAPCD concludes that it has no sources subject to the CTGs based on a review of its permit files, emission inventory, and consultation with permitting and enforcement staff.

Additionally, EKAPCD determined it had sources exceeding the 100 tpy major source threshold for NOX and VOC. However, Table 5 of the 2017 RACT SIP indicates EKAPCD's negative declaration that there are no non-CTG major VOC sources for the 2008 8-hour ozone NAAQS. As described in more detail in our TSD, we conclude that EKAPCD properly identified all major non-CTG sources requiring RACT.

We reviewed EKAPCD's list of negative declarations in Table 6 of the 2017 RACT SIP and California Emissions Inventory data to verify the District's conclusion that it has no stationary sources subject to the CTG source categories for which it has adopted a negative declaration. We agree with the District's negative declarations in the 2017 RACT SIP and propose to approve them into the SIP.

Table 2—EKAPCD Negative Declarations
CTG document number and date | CTG document title
(EPA-450-2-77-008, 1977/05) | Control of Volatile Organic Emissions from Existing Stationary Sources—Volume II: Surface Coating of Cans, Coils, Paper, Fabrics, Automobiles, and Light-Duty Trucks.
(EPA-450/2-77-025, 1977/10) | Control of Refinery Vacuum Producing Systems, Wastewater Separators, and Process Unit Turnarounds.
(EPA-450/2-77-026, 1977/10) | Control of Hydrocarbons from Tank Truck Gasoline Loading Terminals.
(EPA-450/2-77-032, 1977/12) | Control of VOC Emissions from Existing Stationary Sources—Volume III: Surface Coating of Metal Furniture.
(EPA-450/2-77-033, 1977/12) | Control of Volatile Organic Emissions from Existing Stationary Sources—Volume IV: Surface Coating of Insulation of Magnet Wire.
(EPA-450/2-77-034, 1977/12) | Control of VOC Emissions from Existing Stationary Sources—Volume V: Surface Coating of Large Appliances.
(EPA-450/2-77-035, 1977/12) | Control of VOC Emissions from Bulk Gasoline Plants.
(EPA-450/2-77-036, 1977/12) | Control of VOC Emissions from Storage of Petroleum Liquids in Fixed-Roof Tanks.
(EPA-450/2-77-037, 1977/12) | Control of VOC Emissions from Use of Cutback Asphalt.
(EPA-450/2-78-032, 1978/06) | Control of VOC Emissions from Existing Stationary Sources—Volume VII: Factory Surface Coating of Flat Wood Paneling.
(EPA-450/2-78-036, 1978/06) | Control of VOC Leaks from Petroleum Refinery Equipment.
(EPA-450/2-78-029, 1978/12) | Control of Volatile Organic Emissions from Manufacture of Synthesized Pharmaceutical Products.
(EPA-450/2-78-030, 1978/12) | Control of Volatile Organic Emissions from Manufacture of Pneumatic Rubber Tires.
(EPA-450/2-78-033, 1978/12) | Control of VOC Emissions from Existing Stationary Sources—Volume VIII: Graphic Arts-Rotogravure and Flexography.
(EPA-450/2-78-047, 1978/12) | Control of VOC Emissions from Petroleum Liquid Storage in External Floating Roof Tanks.
(EPA-450/3-82-009, 1982/09) | Control of VOC Emissions from Large Petroleum Dry Cleaners.
(EPA-450/3-83-008, 1983/11) | Control of VOC Emissions from Manufacture of High-Density Polyethylene, Polypropylene, and Polystyrene Resins.
(EPA-450/3-83-007, 1983/12) | Control of VOC Equipment Leaks from Natural Gas/Gasoline Processing Plants.
(EPA-450/3-83-006, 1984/03) | Control of VOC Leaks from Synthetic Organic Chemical Polymer and Resin Manufacturing Equipment.
(EPA-450/2-78-029, 1978/12) | Control of Volatile Organic Emissions from Manufacture of Synthesized Pharmaceutical Products.
(EPA-450/3-84-015, 1984/12) | Control of VOC Emissions from Air Oxidation Processes in Synthetic Organic Chemical Manufacturing Industry.
(EPA-450/4-91-031, 1993/08) | Control of VOC Emissions from Reactor Processes and Distillation Operations in Synthetic Organic Chemical Manufacturing Industry.
(61 FR 44050 8/27/1996, 1996/08) | Control Techniques Guidelines for Shipbuilding and Ship Repair Operations (Surface Coating).
(EPA-453/R-06-001, 2006/09) | Control Techniques Guidelines for Industrial Cleaning Solvents.
(EPA-453/R-06-002, 2006/09) | Control Techniques Guidelines for Offset Lithographic Printing and Letterpress Printing.
(EPA-453/R-06-003, 2006/09) | Control Techniques Guidelines for Flexible Package Printing.
(EPA-453/R-06-004, 2006/09) | Control Techniques Guidelines for Flat Wood Paneling Coatings.
(EPA-453/R-07-003, 2007/09) | Control Techniques Guidelines for Paper, Film, and Foil Coatings.
(EPA-453/R-07-005, 2007/09) | Control Techniques Guidelines for Large Appliance Coatings.
(EPA-453/R-07-005, 2007/09) | Control Techniques Guidelines for Metal Furniture Coatings.
(EPA-453/R-08-004, 2008/09) | Control Techniques Guidelines for Fiberglass Boat Manufacturing Materials.
(EPA-453/R-08-005, 2008/09) | Control Techniques Guidelines for Miscellaneous Industrial Adhesives.
(EPA-453/R-08-006, 2008/09) | Control Techniques Guidelines for Automobile and Light-Duty Truck Assembly Coatings.

C. The EPA's Recommendations to Further Improve the RACT SIP

The TSD includes recommendations for future rule improvements. These recommendations address rule stringency and clarity and update rule language.

D. Public Comment and Proposed Action

As authorized in section 110(k)(3) of the Act, the EPA proposes to approve CARB's submittal of the EKAPCD 2017 RACT SIP, as reflected in Tables 3 and 4. As discussed above, the RACT SIP must document current RACT for sources covered by CTGs and for major non-CTG sources for VOC and NOX emissions. We have determined that the 2017 RACT SIP documents RACT for all CTG sources and non-CTG major VOC sources. For these reasons and the reasons discussed above, we are proposing to approve the District's certification that it has met RACT requirements for items reflected in Tables 3 and 4 for the 2008 8-hour ozone NAAQS as demonstrated in its 2017 RACT SIP.

Table 3—List of CTG Categories—2008 Ozone NAAQS
EPA document No. | CTG source category | EKAPCD rule number claimed as RACT | Negative declaration submitted | EPA proposed action
EPA-450/R-75-102 | Design Criteria for Stage I Vapor Control Systems—Gasoline Service Stations | Rule 412 |  | Approval.
EPA-450/2-77-008 | Control of Volatile Organic Emissions from Existing Stationary Sources—Volume II: Surface Coating of Cans |  | X | Approval.
EPA-450/2-77-008 | Control of Volatile Organic Emissions from Existing Stationary Sources—Volume II: Surface Coating of Coils |  | X | Approval.
EPA-450/2-77-008 | Control of Volatile Organic Emissions from Existing Stationary Sources—Volume II: Surface Coating of Paper |  | X | Approval.
EPA-450/2-77-008 | Control of Volatile Organic Emissions from Existing Stationary Sources—Volume II: Surface Coating of Fabrics |  | X | Approval.
EPA-450/2-77-008 | Control of Volatile Organic Emissions from Existing Stationary Sources—Volume II: Surface Coating of Automobiles, and Light-Duty Trucks |  | X | Approval.
EPA-450/2-77-022 | Control of Volatile Organic Emissions from Solvent Metal Cleaning | Rule 410.3 |  | Approval.
EPA-450/2-77-025 | Control of Refinery Vacuum Producing Systems, Wastewater Separators, and Process Unit Turnarounds |  | X | Approval.
EPA-450/2-77-026 | Control of Hydrocarbons from Tank Truck Gasoline Loading Terminals |  | X | Approval.⁷
EPA-450/2-77-032 | Control of Volatile Organic Emissions from Existing Stationary Sources—Volume III: Surface Coating of Metal Furniture |  | X | Approval.⁸
EPA-450/2-77-033 | Control of Volatile Organic Emissions from Existing Stationary Sources—Volume IV: Surface Coating of Insulation of Magnet Wire |  | X | Approval.⁹
EPA-450/2-77-034 | Control of Volatile Organic Emissions from Existing Stationary Sources—Volume V: Surface Coating of Large Appliances |  | X | Approval.¹⁰
EPA-450/2-77-035 | Control of Volatile Organic Emissions from Bulk Gasoline Plants |  | X | Approval.¹¹
EPA-450/2-77-036 | Control of Volatile Organic Emissions from Storage of Petroleum Liquids in Fixed-Roof Tanks |  | X | Approval.¹²
EPA-450/2-77-037 | Control of Volatile Organic Emissions from Use of Cutback Asphalt |  | X | Approval.
EPA-450/2-78-015 | Control of Volatile Organic Emissions from Existing Stationary Sources—Volume VI: Surface Coating of Miscellaneous Metal Parts and Products | Rule 410.4 |  | Approval.
EPA-450/2-78-029 | Control of Volatile Organic Emissions from Manufacture of Synthesized Pharmaceutical Products |  | X | Approval.
EPA-450/2-78-030 | Control of Volatile Organic Emissions from Manufacture of Pneumatic Rubber Tires |  | X | Approval.
EPA-450/2-78-032 | Control of Volatile Organic Emissions from Existing Stationary Sources—Volume VII: Factory Surface Coating of Flat Wood Paneling |  | X | Approval.¹³
EPA-450/2-78-033 | Control of Volatile Organic Emissions from Existing Stationary Sources—Volume VIII: Graphic Arts-Rotogravure and Flexography |  | X | Approval.¹⁴
EPA-450/2-78-036 | Control of Volatile Organic Compound Leaks from Petroleum Refinery Equipment |  | X | Approval.¹⁵
EPA-450/2-78-047 | Control of Volatile Organic Emissions from Petroleum Liquid Storage in External Floating Roof Tanks |  | X | Approval.¹⁶
EPA-450/2-78-051 | Control of Volatile Organic Compound Leaks from Gasoline Tank Trucks and Vapor Collection Systems | Rule 412 |  | Approval.
EPA-450/3-82-009 | Control of Volatile Organic Compound Emissions from Large Petroleum Dry Cleaners |  | X | Approval.¹⁷
EPA-450/3-83-006 | Control of Volatile Organic Compound Leaks from Synthetic Organic Chemical Polymer and Resin Manufacturing Equipment |  | X | Approval.¹⁸
EPA-450/3-83-007 | Control of Volatile Organic Compound Equipment Leaks from Natural Gas/Gasoline Processing Plants |  | X | Approval.¹⁹
EPA-450/3-83-008 | Control of Volatile Organic Compound Emissions from Manufacture of High-Density Polyethylene, Polypropylene, and Polystyrene Resins |  | X | Approval.
EPA-450/3-84-015 | Control of Volatile Organic Compound Emissions from Air Oxidation Processes in Synthetic Organic Chemical Manufacturing Industry |  | X | Approval.
EPA-450/4-91-031 | Control of Volatile Organic Compound Emissions from Reactor Processes and Distillation Operations in Synthetic Organic Chemical Manufacturing Industry |  | X | Approval.
EPA-453/R-06-001 | Control Techniques Guidelines for Industrial Cleaning Solvents |  | X ²⁰ | Approval.
EPA-453/R-06-002 | Control Technology Guidelines for Offset Lithographic Printing and Letterpress Printing |  | X ²¹ | Approval.²²
EPA-453/R-06-003 | Control Techniques Guidelines for Flexible Package Printing |  | X | Approval.²³
EPA-453/R-06-004 | Control Technique Guidelines for Flat Wood Paneling Coatings |  | X | Approval.²⁴
EPA-453/R-07-003 | Control Techniques Guidelines for Paper Coatings |  | X | Approval.
EPA-453/R-07-003 | Control Techniques Guidelines for Film Coatings |  | X | Approval.
EPA-453/R-07-003 | Control Techniques Guidelines for Foil Coatings |  | X | Approval.
EPA-453/R-07-004 | Control Techniques Guidelines for Large Appliance Coatings |  | X | Approval.²⁵
EPA-453/R-07-005 | Control Techniques Guidelines for Metal Furniture Coatings |  | X | Approval.²⁶
EPA-453/R-08-003 | Control Technique Guidelines for Miscellaneous Metal and Plastic Parts Coatings | Rule 410.4 |  | Approval.
EPA-453/R-08-004 | Control Techniques Guidelines for Fiberglass Boat Manufacturing Materials |  | X | Approval.
EPA-453/R-08-005 | Control Techniques Guidelines for Miscellaneous Industrial Adhesives |  | X | Approval.
EPA-453/R-08-006 | Control Techniques Guidelines for Automobile and Light-duty Truck Assembly Coatings |  | X | Approval.²⁷
EPA-453/R-96-007 | Control of Volatile Organic Compound Emissions from Wood Furniture Manufacturing Operations | Rule 410.9 |  | Approval.
EPA-453/R-94-032 | Alternative Control Technology Document—Surface Coating Operations at Shipbuilding and Ship Repair Facilities CTG, see 61 FR-44050, 8/27/96 |  | X | Approval.
61 FR-44050-8/27/96 | Control Techniques Guidelines for Shipbuilding and Ship Repair Operations (Surface Coating) |  | X | Approval.²⁸
EPA-453/R-97-004 | Control of VOC Emissions from Coating Operations at Aerospace Manufacturing and Rework Operations | Rule 410.8 |  | Approval.
EPA-453/B-16-001 | Control Techniques Guidelines for the Oil and Natural Gas Industry |  | X | EPA approved this negative declaration on January 14, 2021 (86 FR 3816).

⁷ The District identified Rule 412 for this CTG category and submitted a negative declaration. In this action, we are proposing to approve the negative declaration.

⁸ The District identified Rule 410.4 for this CTG category and submitted a negative declaration. In this action, we are proposing to approve the negative declaration.

⁹ The District identified Rule 410.4 for this CTG category and submitted a negative declaration. In this action, we are proposing to approve the negative declaration.

¹⁰ The District identified Rule 410.4 for this CTG category and submitted a negative declaration. In this action, we are proposing to approve the negative declaration.

¹¹ The District identified Rule 412 for this CTG category and submitted a negative declaration. In this action, we are proposing to approve the negative declaration.

¹² The District identified Rule 411 for this CTG category and submitted a negative declaration. In this action, we are proposing to approve the negative declaration.

¹³ The District identified Rule 410.9 for this CTG category and submitted a negative declaration. In this action, we are proposing to approve the negative declaration.

¹⁴ The District identified Rule 410.7 for this CTG category and submitted a negative declaration. In this action, we are proposing to approve the negative declaration.

¹⁵ The District identified Rules 414.1 and 414.5 for this CTG category and submitted a negative declaration. In this action, we are proposing to approve the negative declaration.

¹⁶ The District identified Rule 411 for this CTG category and submitted a negative declaration. In this action, we are proposing to approve the negative declaration.

¹⁷ The District identified Rule 410.6A for this CTG category and submitted a negative declaration. In this action, we are proposing to approve the negative declaration.

¹⁸ The District identified Rule 414.1 for this CTG category and submitted a negative declaration. In this action, we are proposing to approve the negative declaration.

¹⁹ The District identified Rules 414.1 and 414.5 for this CTG category and submitted a negative declaration. In this action, we are proposing to approve the negative declaration.

²⁰ For this CTG category, the district found there to be no sources greater than the CTG applicability.

²¹ For this CTG category, the district found there to be no sources greater than the CTG applicability.

²² The District identified Rule 410.7 for this CTG category and submitted a negative declaration. In this action, we are proposing to approve the negative declaration.

²³ The District identified Rule 410.7 for this CTG category and submitted a negative declaration. In this action, we are proposing to approve the negative declaration.

²⁴ The District identified Rule 410.9 for this CTG category and submitted a negative declaration. In this action, we are proposing to approve the negative declaration.

²⁵ The District identified Rule 410.4 for this CTG category and submitted a negative declaration. In this action, we are proposing to approve the negative declaration.

²⁶ The District identified Rule 410.4 for this CTG category and submitted a negative declaration. In this action, we are proposing to approve the negative declaration.

²⁷ The District identified Rule 410.4A for this CTG category and submitted a negative declaration. In this action, we are proposing to approve the negative declaration.

²⁸ The District identified Rule 410.4 for this CTG category and submitted a negative declaration. In this action, we are proposing to approve the negative declaration.

Table 4—RACT for Major Non-CTG VOC/NOX Sources in EKAPCD—2008 Ozone NAAQS
Category | Major non-CTG sources in District? | Covered by SIP-Approved RACT-Level EKAPCD Rules | EPA proposed action
Major (100+ tpy) non-CTG VOC sources | None listed | N/A | Approval.
Major (100+ tpy) non-CTG NOX sources | Yes | No | EPA is not acting on this element in this action

We will accept comments from the public on this proposal until September 24, 2021. If finalized, this action would incorporate the approved portions of the 2017 RACT SIP and negative declarations into the SIP.

III. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Ozone, Reporting and recordkeeping requirements, Volatile organic compounds.

Authority: 42 U.S.C. 7401 et seq.

Dated: August 6, 2021.
Deborah Jordan,
Acting Regional Administrator, Region IX.

[FR Doc. 2021-17239 Filed 8-24-21; 8:45 am]

BILLING CODE 6560-50-P